DEPARTMENT OF AGRICULTURE

Notice of an Education Listening Session Meeting

SUMMARY: The Education Coordinating Committee, a body of the United States Department of Agriculture (USDA) Science Council announces an Education Listening Session stakeholder meeting for all interested agricultural education stakeholders.

DATES: The Education Listening Session will be held August 1, 2013. The public may file written comments up to one week after the meeting with the Contact Person.

ADDRESSES: The meeting will take place at the Jamie L. Whitten Federal Building, 1400 Independence Avenue SW., Washington, DC 20250. Written comments from the public may be emailed to the Contact Person identified in this notice.

FOR FURTHER INFORMATION CONTACT: Jenna Jadin, Advisor, Office of the Chief Scientist; telephone: (202) 260-8318; or email: Jenna.Jadin@osec.usda.gov

SUPPLEMENTARY INFORMATION: The Under Secretary of Research, Education, and Economics, Dr. Catherine Woteki, and the Deputy Under Secretary of Research, Education, and Economics (REE), Ann Bartuska, have been invited to provide brief remarks and welcome stakeholders during the meeting.

On Thursday, August 1, 2013, the listening session will be held from 9:00 a.m.-5:30 p.m. in room 107-A of the Jamie L. Whitten building. Specific topics of discussion in the morning session will include an introduction to the education programs of all of USDA's mission areas, and information on how USDA is fitting in to the broader Federal Science, Technology, Engineering, and Mathematics (STEM) education rearrangement.

In the late morning, the audience will listen to 10 minute presentations from stakeholders that discuss their education programs and their perception of needs and potential improvements in the field of agricultural education. Following lunch, stakeholder presentations will continue, and will be followed by a breakout group session in which participants will be asked to discuss, in small groups, a set of questions posed by the organizers which are aimed at getting feedback on agricultural and related education needs. The meeting will adjourn by 5:30 p.m.

All stakeholders are welcome to apply for a 10-minute presentation slot, however, due to time constraints, a limited number will be selected on a first come, first served basis. To apply for a slot, please email the Contact Person listed above. All presentations may be simple oral presentations or given in PowerPoint, however, the organizers request that a written transcript of the talk be submitted no later than one week after the event. Written comments by attendees or other interested stakeholders will be welcomed before and up to one week following the listening session (by close of business Thursday, August 8, 2013). All statements will become a part of the official record of the Education Coordinating Committee of the USDA Science Council and will be kept on file in the Office of the Chief Scientist.

All parties interested in attending this event must RSVP no later than July 24, 2013 to the Contact Person listed above.

Due to size constraints in the meeting room, only the first 70 responders will be accepted.

Done at Washington, DC this 18th day of July 2013.
Catherine E. Woteki,
Under Secretary, REE, Chief Scientist, USDA.

[FR Doc. 2013-17888 Filed 7-24-13; 8:45 am]

BILLING CODE 3410-03-P